DEPARTMENT OF HEALTH AND HUMAN SERVICES

Food and Drug Administration

Food Advisory Committee Meeting; Cancellation

AGENCY: Food and Drug Administration, HHS.

ACTION: Notice.

SUMMARY: The Food and Drug Administration (FDA) is canceling the meeting of the Food Advisory Committee scheduled for June 20 and 21, 2002. This meeting was announced in the Federal Register of May 30, 2002 (67 FR 37844).

FOR FURTHER INFORMATION CONTACT: Constance J. Hardy, Center for Food Safety and Applied Nutrition (HFS-811), Food and Drug Administration, 5100 Paint Branch Pkwy., College Park, MD 20740, 301-436-1433, or FDA Advisory Committee Information Line, 1-800-741-8138 (301-443-0572 in the Washington, DC area), code 10564.

Dated: June 13, 2002.
William K. Hubbard,
Senior Associate Commissioner for Policy, Planning, and Legislation.

[FR Doc. 02-15488 Filed 6-14-02; 4:15 pm]

BILLING CODE 4160-01-S